DEPARTMENT OF ENERGY

Energy Information Administration

Agency Information Collection Extension

AGENCY: U.S. Energy Information Administration (EIA), Department of Energy (DOE).

ACTION: Notice and Request for Office of Management and Budget (OMB) Review and Comment.

SUMMARY: EIA has submitted, under the provisions of the Paperwork Reduction Act of 1995, an information collection request to the OMB for a three-year extension, with changes, of its Oil and Gas Reserves System Surveys (OGRS) forms (OMB 1905-0057):

• Form EIA-23L, Annual Survey of Domestic Oil and Gas Reserves, Field Level Report

• Form EIA-23S, Annual Survey of Domestic Oil and Gas Reserves, Summary Level Report

• Form EIA-64A, Annual Report of the Origin of Natural Gas Liquids Production

EIA proposes to suspend the Form EIA-23S and collect similar data in a revised sample for the Form EIA-23L data collection. The sampling method for the Form EIA-23L survey frame will be changed to a cut-off sample, and procedures to estimate data will be adjusted, accordingly. EIA proposes to report reserves for three, small natural gas and oil production states (IL, IN, and TN) “as reported” (i.e., will no longer estimate the total reserves for these states) under the Miscellaneous States category in EIA publications. The Form EIA-23L instructions will be updated with the current EIA definitions of terms used. Form EIA-64A will be extended without changes.

DATES: Comments regarding this collection must be received on or before April 1, 2013. If you anticipate that you will be submitting comments, but find it difficult to do so within the period of time allowed by this notice, please advise the DOE Desk Officer at OMB of your intention to make a submission as soon as possible. The Desk Officer may be telephoned at 202-395-4718 or contacted by email at chad_s_whiteman@omb.eop.gov.

ADDRESSES: Written comments should be sent to the: DOE Desk Officer, Office of Information and Regulatory Affairs, Office of Management and Budget, New Executive Office Building, Room 10102, 735 17th Street NW., Washington, DC 20503; and to Steven Grape, EI-24, U.S. Energy Information Administration, U.S. Department of Energy, 1000 Independence Ave. SW., Washington, DC 20585.

FOR FURTHER INFORMATION CONTACT: Requests for additional information or copies of the information collection instrument and instructions should be directed to Steven Grape, EI-24, U.S. Energy Information Administration, U.S. Department of Energy, 1000 Independence Avenue SW., Washington, DC 20585, fax: (202) 586-4420, email: steven.grape@eia.gov. The collection instrument and instructions are also available on the Internet, at: http://www.eia.gov/survey/form/eia_23l/proposed/instructions.pdf http://www.eia.gov/survey/form/eia_23l/proposed/form.pdf http://www.eia.gov/survey/form/eia_64a/proposed/instructions.pdf http://www.eia.gov/survey/form/eia_64a/proposed/form.pdf.

SUPPLEMENTARY INFORMATION: This information collection request contains:

(1) OMB No.: 1905-0057;

(2) Information Collection Request Title: Oil and Gas Reserves System;

(3) Type of Request: Three-year extension with changes;

(4) Purpose: EIA has a congressional mandate to provide accurate annual estimates of U.S. proved crude oil, natural gas, and natural gas liquids reserves. EIA presents annual reserves data in EIA Web reports to meet this requirement. This collected data and EIA's nationwide estimates are essential to the development, implementation, and evaluation of energy policy and legislation. Data are used directly in EIA web reports concerning U.S. crude oil, natural gas, and natural gas liquids reserves, and are incorporated into other reports, including EIA's Annual Energy Review, Annual Energy Outlook, Short-Term Energy Outlook, Petroleum Supply Annual, and Natural Gas Annual.

EIA proposes to suspend the Form EIA-23S, consolidate some if its respondents into the Form EIA-23L, and change the Form EIA-23L sampling and estimation to streamline administrative processes and to improve data quality. The Form EIA-23L sampling method will change from a probability proportional to size (PPS) method to a cut-off sample that excludes the smallest respondents, who may lack the resources to effectively report all requested data, thus reducing the potential for non-sampling error. Procedures to estimate data published at regional summary levels will be adjusted to reflect the new sampling method. The Form EIA-23L questions will not change. The Form EIA-23L instructions will be updated with the current EIA definitions of terms used. The Form EIA-64A is proposed to be extended without changes.

(5) Annual Estimated Number of Respondents: 1,450;

(6) Annual Estimated Number of Total Responses: 1,450;

(7) Annual Estimated Number of Burden Hours: 43,650 hours;

(8) Annual Estimated Reporting and Recordkeeping Cost Burden: $0; EIA estimates that there are no additional costs to respondents associated with the surveys other than the costs associated with the burden hours.

Statutory Authority: Section 13(b) of the Federal Energy Administration Act of 1974, Pub. L. 93-275, codified at 15 U.S.C. 772(b) and Section 657 of the Department of Energy Organization Act, Pub. L. 95-91.

Issued in Washington, DC, on February 22, 2013.
Stephanie Brown,
Director, Office of Survey Development and Statistical Integration, U.S. Energy Information Administration.

[FR Doc. 2013-04714 Filed 2-27-13; 8:45 am]

BILLING CODE 6450-01-P